DEPARTMENT OF LABOR

Office of the Secretary

Privacy Act of 1974; Publication of an individual Systems of Records

AGENCY: Office of the Secretary, Labor.

ACTION: Notice of One New System of Records.

SUMMARY: The Privacy Act of 1974 requires that each agency publish notice of all of the systems of records that it maintains. This document proposes to establish an individual system of records to the current systems of records of the Department of Labor (Department or DOL).

DATES: Persons wishing to comment on the changes set out in this notice may do so on or before August 17, 2015.

Dates: Effective Date: Unless there is a further notice in the Federal Register, this new system of record will become effective on August 31, 2015.

FOR FURTHER INFORMATION CONTACT: Joseph J. Plick, Counsel for FOIA and Information Law, Office of the Solicitor, Department of Labor, 200 Constitution Avenue, NW., Room N-2420, Washington, DC 20210, telephone (202) 693-5527, or by email to plick.joseph@dol.gov.

SUPPLEMENTARY INFORMATION: The Department of Labor has established a system of records pursuant to the Privacy Act of 1974 (5 U.S.C. 552a(e)(4)), hereinafter referred to as the Act, the Department hereby publishes notice of updates to its systems of records.

This current document presents one new system of records. This notice provides a summary of the new system of records and then provides the Universal Routine Uses applicable to this new system of records.

The proposed new system is entitled DOL/VETS-5, Veterans' Data Exchange Initiative (VDEI). This system contains records related to Exiting Service Members (ESMs) participating in the United States Department of Defense (DOD) Pre-separation Counseling of the Transition Assistance Program.

General Prefatory Statement

A. Universal Routine Uses of the Records

The following routine uses of the records apply to and are incorporated by reference into each system of records published below unless the text of a particular notice of a system of records indicates otherwise. These routine uses do not apply to DOL/OASAM-5, Rehabilitation and Counseling File; DOL/OASAM-7, Employee Medical Records, and DOL/CENTRAL-3, Internal Investigations of Harassing Conduct.

1. To disclose the records to the Department of Justice when: (a) The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States Government, is a party to litigation or has an interest in such litigation, and by careful review, the agency determines that the records are both relevant and necessary to the litigation, and that the use of such records is for a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted pursuant to 44 U.S.C. 2904 and 2906.

6. To disclose to contractors, employees of contractors, consultants, grantees, and volunteers who have been engaged to assist the agency in the performance of or working on a contract, service, grant, cooperative agreement or other activity or service for the Federal Government.

Note: Recipients shall be required to comply with the requirements of the Privacy Act of 1974, as amended, 5 U.S.C. 552a; see also 5 U.S.C. 552a(m).

7. To the parent locator service of the Department of Health and Human Services or to other authorized persons defined by Public Law 93-647 (42 U.S.C. 653(c)) the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, tribal, or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services, to recover debts owed to the United States.

12. To the news media and the public when (1) the matter under investigation has become public knowledge, (2) the Solicitor of Labor determines that disclosure is necessary to preserve confidence in the integrity of the Department or is necessary to demonstrate the accountability of the Department's officers, employees, or individuals covered by this system, or (3) the Solicitor of Labor determines that there exists a legitimate public interest in the disclosure of the information, provided the Solicitor of Labor determines in any of these situations that the public interest in disclosure of specific information in the context of a particular case outweighs the resulting invasion of personal privacy.

B. System Location—Flexiplace Programs

The following paragraph applies to and is incorporated by reference into all of the Department's systems of records under the Privacy Act, within the category entitled, SYSTEM LOCATION.

Pursuant to the Department of Labor's Flexiplace Programs (also known as “telework” pursuant to the Telework Enhancement Act), copies of records may be temporarily located at alternative worksites, including employees' homes or at geographically convenient satellite offices for part of the workweek. All appropriate safeguards will be taken at these sites.

Signed at Washington, DC, this 22 day of June, 2015.
Thomas E. Perez,
Secretary of Labor.

DOL/VETS-5

SYSTEM NAME:

Veterans' Data Exchange Initiative (VDEI)

SYSTEM CLASSIFICATION:

None.

SYSTEM LOCATION:

The VDEI servers are located at the ByteGrid Data Center, 12401 Prosperity Drive, Silver Spring, Maryland 20904.

CATEGORIES OF INDIVIDUALS COVERED BY THE SYSTEM:

Exiting Service Members (ESMs) participating in the United States Department of Defense (DOD) Pre-separation Counseling of the Transition Assistance Program (TAP) who complete documentation.

CATEGORIES OF RECORDS IN THE SYSTEM:

The records in the system are for ESMs who participated in this program. Records contain the following personally identifiable information (PII) data for ESMs:

1. Branch

2. Name

3. Rank

4. SSN

5. Gender

6. Race

7. Basic Active Service Date

8. Expiration Service Date

9. Level of Education

10. Guard/Reserve Status

11. Date of Birth

12. Military Occupational Specialty

13. Type of Discharge

14. EDIPI (DOD Electronic Data Interchange Person Identifier)

15. Marital Status

16. Home of Record State Code

17. Home of Record Country Code

18. Citizenship

19. Email Address

20. Mailing Address Street Address

21. Mailing Address City

22. Mailing Address State Code

23. Mailing Address Zip Code

24. Date Began the Department of Labor Employment Workshop (DOL EW) During TAP

25. Date End DOL EW During TAP

26. Location DOL EW During TAP

27. Number of Dependents Under Eighteen

28. Armed Services Vocational Aptitude Battery (ASVAB)/Armed Forces Qualification Test (AFQT) Score

29. Medical Discharge

AUTHORITY FOR MAINTENANCE OF THE SYSTEM:

(1) DMDC 01, Defense Manpower Data Center Data Base, November 23, 2011, 76 FR 72391; 38 U.S.C. 4102, Job Counseling, Training, and Placement Service for Veterans; and (2) 10 U.S.C. 1142, Pre-separation Counselling; E.O. 9397.

PURPOSE(S):

To provide services to ESMs in areas of employment and training.

ROUTINE USES OF RECORDS MAINTAINED IN THE SYSTEM, INCLUDING CATEGORIES OF USERS AND THE PURPOSES OF SUCH USES:

In addition to the universal routine uses, VETS intends to be a conduit for other departments who need similar veteran data (upon approval from DOD).

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by:

1. Branch, Race, Level of Education, Length of Service, Military Occupational Specialty (MOS), Length of Service (Basic Active Service Date and Expiration Service Date), Marital Status, Gender, Medical Discharge, Number of Dependents Under 18 and Type of Discharge; or

2. EDIPI, Rank, Mailing Address Street Address, Mailing Address City, Mailing Address State Code, Mailing Address Zip Code, Mailing Address, Home of Record State Code, Home of Record Country Code, Length of TAP (Date Begun DOL EW TAP and Date End DOL EW TAP), Location of the DOL EW during TAP, Citizenship, Guard/Reserve status, and ASVAB score/AFQT score.

SAFEGUARDS:

Accessed by authorized personnel only. Computer security safeguards are used for electronically stored data.

RETENTION AND DISPOSAL:

Records are retained indefinitely.

SYSTEM MANAGER(S) AND ADDRESS:

Director, Office of Agency Management and Budget United States Department of Labor Veterans' Employment and Training Service, 200 Constitution Ave. NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained within this system is obtained from the DOD/DMDC.

SYSTEMS EXEMPTED FROM CERTAIN PROVISIONS OF THE ACT:

None.

[FR Doc. 2015-16460 Filed 7-2-15; 8:45 am]

BILLING CODE 4510-49-P